DEPARTMENT OF HEALTH AND HUMAN SERVICES

National Institutes of Health

Center for Scientific Review; Amended Notice of Meeting

Notice is hereby given of a change in the meeting of the Membrane Biology and Protein Processing Study Section, October 7, 2010, 8 a.m. to October 8, 2010, 5 p.m., St. Gregory Hotel, 2033 M Street, NW., Washington, DC 20036 which was published in the Federal Register on August 31, 2010, 75 FR 53317-53319.

The meeting will be held at The Beacon Hotel, 1615 Rhode Island Avenue, NW., Washington, DC 20036. The meeting dates and time remain the same. The meeting is closed to the public.

Dated: September 9, 2010.
Jennifer S. Spaeth,
Director, Office of Federal Advisory Committee Policy.

[FR Doc. 2010-23026 Filed 9-14-10; 8:45 am]

BILLING CODE 4140-01-P